DEPARTMENT OF COMMERCE

International Trade Administration

A-570-846

Brake Rotors from the People's Republic of China: Extension of Time Limit for Final Results of the Twelfth New Shipper Review

AGENCY: Import Administration, International Trade Administration, Department of Commerce.

EFFECTIVE DATE: December 20, 2005.

FOR FURTHER INFORMATION CONTACT: Kit Rudd or Nicole Bankhead, AD/CVD Operations, Office 9, Import Administration, International Trade Administration, U.S. Department of Commerce, 14th Street and Constitution Avenue, NW, Washington, DC 20230; telephone (202) 482-1385 and (202) 482-9068, respectively.

SUPPLEMENTARY INFORMATION:

Background

On September 28, 2005, the Department of Commerce (“the Department”) published in the Federal Register the preliminary results of the new shipper review of the antidumping duty order on brake rotors from the People's Republic of China (“PRC”). See Brake Rotors From the People's Republic of China: Preliminary Results of the Twelfth New Shipper Review, 70 FR 56634 (“Preliminary Results”). The final results are currently due on December 19, 2005.

Extension of Time Limit for Final Results

Pursuant to section 751(a)(2)(B)(iv) of the Tariff Act of 1930, as amended (“the Act”), and section 351.214(i)(1) of the Department's regulations, the Department shall issue final results in a new shipper review of an antidumping duty order 90 days after the date on which the preliminary results are issued. Section 351.214(i)(2) of the Department's regulations state, however, that if the Department determines that a new shipper review is extraordinarily complicated, the Department may extend the 90-day period to 150 days. The Department finds that the complicated nature of this review necessitates an extension of time beyond the 90-day period to complete the final results.

On October 17, 2005, the Department granted the Coalition for the Preservation of American Brake Drum and Rotor Aftermarket Manufacturers (“Petitioner”) an extension of time to file publicly available information to value certain factors of production in the final results of the review. In addition, on October 25, 2005, the Department granted respondents Laizhou Wally Automobile Co., Ltd. (“Wally”) and Dixion Brake System (Longkou) Ltd. an extension of time to file their case briefs and rebuttal briefs. As a result of these extensions, the Department requires additional time to analyze the complex issues contained in the parties' comments and briefs, including the Petitioner's argument regarding the bona fide nature of Wally's sales.

Therefore, for the reasons cited above, we are extending the time limit for the completion of the final results of this review by 30 days, until no later than January 18, 2006. This notice is published in accordance with section 751(a)(2)(B)(iv) of the Act and section 351.214(i)(2) of the Department's regulations.

Dated: December 13, 2005.
Stephen J. Claeys,
Deputy Assistant Secretary for Import Administration.

[FR Doc. E5-7563 Filed 12-19-05; 8:45 am]

BILLING CODE 3510-DS-S